DEPARTMENT OF COMMERCE

Foreign-Trade Zones Board

[Order No. 1367]

Approval for Expanded Manufacturing Authority (Motor Vehicles); Foreign-Trade Subzone 158D Nissan North America, Inc., Canton, MS

Pursuant to its authority under the Foreign-Trade Zones Act of June 18, 1934, as amended (19 U.S.C. 81a-81u)(the Act), the Foreign-Trade Zones Board (the Board) adopts the following Order:

Whereas, the Vicksburg-Jackson Foreign-Trade Zone, Inc., grantee of FTZ 158, has requested authority under Section 400.32(b)(1) of the Board's regulations, on behalf of Nissan North America, Inc. (NNA), operator of Subzone 158D at the NNA motor vehicle manufacturing plant in Canton, Mississippi, requesting an expansion of the scope of manufacturing authority to include new manufacturing capacity under FTZ procedures (Docket 56-2003, filed 10-29-2003);

Whereas, pursuant to 15 CFR 400.32(b)(1), the Commerce Department's Assistant Secretary for Import Administration has the authority to act for the Board in making such decisions on new manufacturing/processing activity under certain circumstances, including situations where the proposed activity is the same, in terms of products involved, to activity recently approved by the Board (§ 400.32(b)(1)(i)); and,

Whereas, the FTZ Staff has reviewed the proposal, taking into account the criteria of Section 400.31, and the Executive Secretary has recommended approval;

Now, therefore, the Assistant Secretary for Import Administration, acting for the Board pursuant to Section 400.32(b)(1), concurs in the recommendation and hereby approves the request subject to the Act and the Board's regulations, including Section 400.28.

Signed at Washington, DC, this 27th day of January 2005.
Joseph A. Spetrini,
Acting Assistant Secretary of Commerce for Import Administration, Alternate Chairman, Foreign-Trade Zones Board.
Attest:
Dennis Puccinelli,
Executive Secretary.

[FR Doc. 05-2436 Filed 2-7-05; 8:45 am]

BILLING CODE 3510-DS-P